DEPARTMENT OF EDUCATION

Applications for New Awards; Teacher Quality Partnership Grant Program

AGENCY: Office of Innovation and Improvement, Department of Education.

ACTION: Notice.

Overview Information

Teacher Quality Partnership Grant Program Notice inviting applications for new awards for fiscal year (FY) 2014.

Catalog of Federal Domestic Assistance (CFDA) Number: 84.336S.

DATES: Applications Available: May 28, 2014.

Deadline for Notice of Intent to Apply: June 27, 2014.

Date of Pre-Application Webinars (all times are Washington, DC time): Tuesday, June 10, 2014 at 10:00 a.m. and Thursday, June 12, 2014 at 2:00 p.m.

Deadline for Transmittal of Applications: July 14, 2014.

Deadline for Intergovernmental Review: September 10, 2014.

Full Text of Announcement

I. Funding Opportunity Description

Purpose of Program: The Teacher Quality Partnership (TQP) Grant Program aims to increase student achievement by improving the quality of new prospective teachers by enhancing the preparation of prospective teachers and the professional development activities for current teachers; holding teacher preparation programs at institutions of higher education (IHEs) accountable for preparing highly qualified teachers; and recruiting effective individuals, including minorities and individuals from other occupations, into the teaching force.

Background: The TQP Grant Program supports partnerships among (i) IHEs, (ii) high-need local educational agencies (LEAs), and (iii) high-need schools served by such LEAs or high-need early childhood education (ECE) programs. These partnerships must implement (a) teacher preparation programs at the pre-baccalaureate or “fifth-year” level that include specific reforms in IHEs' existing teacher preparation programs; (b) teacher residency programs for individuals with strong academic or professional backgrounds but without teaching experience; or (c) both.

In this competition, we are especially interested in supporting partnership programs that prepare teachers to teach subjects in science, technology, engineering, and mathematics (STEM). In his 2011 State of the Union address, the President called for a new effort to prepare 100,000 STEM teachers over the next decade with strong teaching skills and deep content knowledge. The President's goal has been incorporated into an Administration-wide priority, as part of the both the Federal STEM Education 5-Year Strategic Plan ¹ released in May 2013 and as a Cross Agency Priority Goal ² announced earlier this year. In addition, answering the President's call to action, nearly 200 organizations have formed a coalition called 100Kin10, all committed to the goal of increasing the supply of excellent STEM teachers; hiring, developing, and retaining excellent STEM teachers; and building the 100Kin10 movement.

¹ Federal STEM Education 5-Year Strategic Plan, www.whitehouse.gov/sites/default/files/microsites/ostp/stem_stratplan_2013.pdf.

² Cross-Agency Priority Goal, www.performance.gov/node/3404?view=public#apg.

As described in the President's Council of Advisors on Science and Technology report “Prepare and Inspire: K-12 Education in Science, Technology, Engineering, and Math for America's Future,” ³ being an effective STEM teacher requires both deep content knowledge and strong teaching skills. Deep understanding of content and pedagogical content knowledge can help teachers increase student understanding and achievement, for example, by helping students make connections between STEM subjects and compelling real-world issues, supporting students in approaching problems using the scientific process while addressing student misconceptions along the way, and better equipping students to pursue careers in STEM-related fields.

³ The President's Council of Advisors on Science and Technology (PCAST) (September 2010), Prepare and Inspire: K-12 Education in Science, Technology, Engineering, and Mathematics (STEM) for America's Future. www.whitehouse.gov/sites/default/files/microsites/ostp/pcast-stemed-report.pdf.

Shortages of highly effective STEM teachers are particularly acute in public high schools, where States report more shortages in STEM teachers (e.g., teachers of mathematics, biology, and physical sciences) than in teachers of other subjects (e.g., English and social studies).⁴

⁴ U.S. Department of Education Office of Postsecondary Education (March 2013), The Teacher Shortage Area Nationwide Listing. https://www2.ed.gov/about/offices/list/ope/pol/tsa.pdf.

Compounding the issue of STEM teacher shortages are the challenges regarding preparing and supporting teachers in a national context when most States are in the process of implementing new college- and career-ready academic standards for elementary and secondary school students. Successfully implementing college- and career-ready standards will require, in part, improving the quality of teacher preparation and support. School districts and schools in States implementing new college- and career-ready standards will benefit from assistance to support educators—both pre-service and in-service—throughout the transition to these new standards. In this competition, we encourage applicants to propose projects that develop and implement teacher preparation and professional development programs that will prepare educators to teach to these standards and translate the standards into effective classroom practices.

Priorities: This notice contains two absolute priorities and two competitive preference priorities. In accordance with 34 CFR 75.105(b)(2)(iv), the first absolute priority is from section 202(d) of the Higher Education Act of 1965, as amended (HEA), and the second absolute priority is from section 202(e) of the HEA. The competitive preference priorities are from the notice of final supplemental priorities and definitions for discretionary grant programs published in the Federal Register on December 15, 2010 (75 FR 78486), and corrected on May 12, 2011 (76 FR 27637).

Absolute Priorities: For FY 2014 and any subsequent year in which we make awards from the list of unfunded applicants from this competition, these priorities are absolute priorities. Under 34 CFR 75.105(c)(3) we consider only applications that meet one or both of these absolute priorities. Applicants may submit applications for projects that address both absolute priorities, but must do so in a single application. Addressing more than one absolute priority does not increase the potential points an application can receive. The Secretary intends to award at least one grant that addresses each absolute priority for which applications of sufficient quality are submitted. The Secretary also intends to award at least one grant that addresses both absolute priorities, if applications of sufficient quality are submitted.

These priorities are:

Absolute Priority 1: Partnership Grants for the Preparation of Teachers

Under this priority, an eligible partnership must carry out an effective pre-baccalaureate teacher preparation program or a fifth-year initial licensing program that includes all of the following:

(a) Program Accountability. Implementing reforms, described in paragraph (b) of this priority, within each teacher preparation program and, as applicable, each preparation program for ECE programs, of the eligible partnership that is assisted under this priority, to hold each program accountable for—

(1) Preparing—

(i) New or prospective teachers to be highly qualified (including teachers in rural school districts who may teach multiple subjects, special educators, and teachers of students who are limited English proficient who may teach multiple subjects);

(ii) Such teachers and, as applicable, early childhood educators, to understand empirically-based practice and scientifically valid research related to teaching and learning and the applicability of such practice and research, including through the effective use of technology, instructional techniques, and strategies consistent with the principles of universal design for learning, and through positive behavioral interventions and support strategies to improve student achievement; and

(iii) As applicable, early childhood educators to be highly competent; and

(2) Promoting strong teaching skills and, as applicable, techniques for early childhood educators to improve children's cognitive, social, emotional, and physical development.

(b) Required reforms. The reforms described in paragraph (a) shall include—

(1) Implementing teacher preparation program curriculum changes that improve, evaluate, and assess how well all prospective and new teachers develop teaching skills;

(2) Using empirically-based practice and scientifically valid research, where applicable, about teaching and learning so that all prospective teachers and, as applicable, early childhood educators—

(i) Understand and can implement research-based teaching practices in classroom instruction;

(ii) Have knowledge of student learning methods;

(iii) Possess skills to analyze student academic achievement data and other measures of student learning and use such data and measures to improve classroom instruction;

(iv) Possess teaching skills and an understanding of effective instructional strategies across all applicable content areas that enable general education and special education teachers and early childhood educators in order to—

(A) Meet the specific learning needs of all students, including students with disabilities, students who are limited English proficient, students who are gifted and talented, students with low literacy levels, and, as applicable, children in ECE programs; and

(B) Differentiate instruction for such students;

(v) Can effectively participate as a member of the individualized education program team, as defined in section 614(d)(1)(B) of the Individuals with Disabilities Education Act (IDEA); and

(vi) Can successfully employ effective strategies for reading instruction using the essential components of reading instruction;

(3) Ensuring collaboration with departments, programs, or units of a partner institution outside of the teacher preparation program in all academic content areas to ensure that prospective teachers receive training in both teaching and relevant content areas in order to become highly qualified, which may include training in multiple subjects to teach multiple grade levels as may be needed for individuals preparing to teach in rural communities and for individuals preparing to teach students with disabilities as described in section 602(10)(D) of the IDEA;

(4) Developing and implementing an induction program;

(5) Developing admissions goals and priorities aligned with the hiring objectives of the high-need LEA in the eligible partnership; and

(6) Implementing program and curriculum changes, as applicable, to ensure that prospective teachers have the requisite content knowledge, preparation, and degree to teach Advanced Placement or International Baccalaureate courses successfully.

(c) Clinical experience and interaction. Developing and improving a sustained and high-quality preservice clinical education program to further develop the teaching skills of all prospective teachers and, as applicable, early childhood educators involved in the program. Such programs shall do the following—

(1) Incorporate year-long opportunities for enrichment, including—

(i) Clinical learning in classrooms in high-need schools served by the high-need LEA in the eligible partnership, and identified by the eligible partnership; and

(ii) Closely supervised interaction between prospective teachers and faculty, experienced teachers, principals, other administrators, and school leaders at ECE programs (as applicable), elementary schools, or secondary schools, and providing support for such interaction;

(2) Integrate pedagogy and classroom practice and promote effective teaching skills in academic content areas;

(3) Provide high-quality teacher mentoring;

(4) Be offered over the course of a program of teacher preparation;

(5) Be tightly aligned with course work (and may be developed as a fifth-year of a teacher preparation program);

(6) Where feasible, allow prospective teachers to learn to teach in the same LEA in which the teachers will work, learning the instructional initiatives and curriculum of that LEA;

(7) As applicable, provide training and experience to enhance the teaching skills of prospective teachers to better prepare such teachers to meet the unique needs of teaching in rural or urban communities; and

(8) Provide support and training for individuals participating in an activity for prospective or new teachers described in this paragraph, or paragraphs (a) and (b), or (d), and for individuals who serve as mentors for such teachers, based on each individual's experience. Such support may include—

(i) With respect to a prospective teacher or a mentor, release time for such individual's participation;

(ii) With respect to a faculty member, receiving course workload credit and compensation for time teaching in the eligible partnership's activities; and

(iii) With respect to a mentor, a stipend, which may include bonus, differential, incentive, or performance pay, based on the mentor's extra skills and responsibilities.

(d) Induction programs for new teachers. Creating an induction program for new teachers or, in the case of an early childhood education program, providing mentoring or coaching for new early childhood educators.

(e) Support and training for participants in ECE programs. In the case of an eligible partnership focusing on early childhood educator preparation, implementing initiatives that increase compensation for early childhood educators who attain associate or baccalaureate degrees in ECE.

(f) Teacher recruitment. Developing and implementing effective mechanisms (which may include alternative routes to State certification of teachers) to ensure that the eligible partnership is able to recruit qualified individuals to become highly qualified teachers through the activities of the eligible partnership, which may include an emphasis on recruiting into the teaching profession—

(1) Individuals from underrepresented populations;

(2) Individuals to teach in rural communities and teacher shortage areas, including mathematics, science, special education, and the instruction of limited English proficient students; and

(3) Mid-career professionals from other occupations, former military personnel, and recent college graduates with a record of academic distinction.

(g) Literacy training. Strengthening the literacy teaching skills of prospective and, as applicable, new elementary school and secondary school teachers—

(1) To implement literacy programs that incorporate the essential components of reading instruction;

(2) To use screening, diagnostic, formative, and summative assessments to determine students' literacy levels, difficulties, and growth in order to improve classroom instruction and improve student reading and writing skills;

(3) To provide individualized, intensive, and targeted literacy instruction for students with deficiencies in literacy skills; and

(4) To integrate literacy skills in the classroom across subject areas.

Absolute Priority 2: Partnership Grants for the Establishment of Effective Teaching Residency Programs

I. General. Under this priority, an eligible partnership must carry out an effective teaching residency program that includes all of the following activities:

(a) Supporting a teaching residency program described in paragraph II(a) for high-need subjects and areas, as determined by the needs of the high-need LEA in the partnership;

(b) Placing graduates of the teaching residency program in cohorts that facilitate professional collaboration, both among graduates of the teaching residency program and between such graduates and mentor teachers in the receiving school;

(c) Ensuring that teaching residents who participate in the teaching residency program receive—

(1) Effective pre-service preparation as described in paragraph II;

(2) Teacher mentoring;

(3) Support required through the induction program as the teaching residents enter the classroom as new teachers; and

(4) The preparation described in paragraphs (c)(1), (2), and (3) of Absolute Priority 1.

II. Teaching Residency Programs.

(a) Establishment and design. A teaching residency program under this priority shall be a program based upon models of successful teaching residencies that serves as a mechanism to prepare teachers for success in the high-need schools in the eligible partnership, and shall be designed to include the following characteristics of successful programs:

(1) The integration of pedagogy, classroom practice, and teacher mentoring;

(2) Engagement of teaching residents in rigorous graduate-level course work leading to a master's degree while undertaking a guided teaching apprenticeship;

(3) Experience and learning opportunities alongside a trained and experienced mentor teacher—

(i) Whose teaching shall complement the residency program so that classroom clinical practice is tightly aligned with coursework;

(ii) Who shall have extra responsibilities as a teacher leader of the teaching residency program, as a mentor for residents, and as a teacher coach during the induction program for new teachers; and for establishing, within the program, a learning community in which all individuals are expected to continually improve their capacity to advance student learning; and

(iii) Who may be relieved from teaching duties as a result of such additional responsibilities;

(4) The establishment of clear criteria for the selection of mentor teachers based on measures of teacher effectiveness and the appropriate subject area knowledge. Evaluation of teacher effectiveness shall be based on, but not limited to, observations of the following—

(i) Planning and preparation, including demonstrated knowledge of content, pedagogy, and assessment, including the use of formative and diagnostic assessments to improve student learning;

(ii) Appropriate instruction that engages students with different learning styles;

(iii) Collaboration with colleagues to improve instruction;

(iv) Analysis of gains in student learning, based on multiple measures that are valid and reliable and that, when feasible, may include valid, reliable, and objective measures of the influence of teachers on the rate of student academic progress; and

(v) In the case of mentor candidates who will be mentoring new or prospective literacy and mathematics coaches or instructors, appropriate skills in the essential components of reading instruction, teacher training in literacy instructional strategies across core subject areas, and teacher training in mathematics instructional strategies, as appropriate;

(5) Grouping of teaching residents in cohorts to facilitate professional collaboration among such residents;

(6) The development of admissions goals and priorities—

(i) That are aligned with the hiring objectives of the LEA partnering with the program, as well as the instructional initiatives and curriculum of such agency, in exchange for a commitment by such agency to hire qualified graduates from the teaching residency program; and

(ii) Which may include consideration of applicants that reflect the communities in which they will teach as well as consideration of individuals from underrepresented populations in the teaching profession; and

(7) Support for residents, once the teaching residents are hired as teachers of record, through an induction program, professional development, and networking opportunities to support the residents through not less than the residents' first two years of teaching.

(b) Selection of individuals as teacher residents.

(1) Eligible Individual. In order to be eligible to be a teacher resident in a teaching residency program under this priority, an individual shall—

(i) Be a recent graduate of a four-year institution of higher education or a mid-career professional from outside the field of education possessing strong content knowledge or a record of professional accomplishment; and

(ii) Submit an application to the teaching residency program.

(2) Selection Criteria. An eligible partnership carrying out a teaching residency program under this priority shall establish criteria for the selection of eligible individuals to participate in the teaching residency program based on the following characteristics—

(i) Strong content knowledge or record of accomplishment in the field or subject area to be taught;

(ii) Strong verbal and written communication skills, which may be demonstrated by performance on appropriate tests; and

(iii) Other attributes linked to effective teaching, which may be determined by interviews or performance assessments, as specified by the eligible partnership.

(c) Stipends or salaries; applications; agreements; repayments.

(1) Stipends or salaries. A teaching residency program under this priority shall provide a one-year living stipend or salary to teaching residents during the teaching residency program;

(2) Applications for stipends or salaries. Each teacher residency candidate desiring a stipend or salary during the period of residency shall submit an application to the eligible partnership at such time, and containing such information and assurances, as the eligible partnership may require;

(3) Agreements to serve. Each application submitted under paragraph (c)(2) of this priority shall contain or be accompanied by an agreement that the applicant will—

(i) Serve as a full-time teacher for a total of not less than three academic years immediately after successfully completing the teaching residency program;

(ii) Fulfill the requirement under paragraph (c)(3)(i) of this priority by teaching in a high-need school served by the high-need LEA in the eligible partnership and teach a subject or area that is designated as high need by the partnership;

(iii) Provide to the eligible partnership a certificate, from the chief administrative officer of the LEA in which the resident is employed, of the employment required under paragraph (c)(3)(i) and (ii) of this priority at the beginning of, and upon completion of, each year or partial year of service;

(iv) Meet the requirements to be a highly qualified teacher, as defined in section 9101 of the Elementary and Secondary Education Act of 1965, as amended (ESEA), or section 602 of the IDEA, when the applicant begins to fulfill the service obligation under this priority; and

(v) Comply with the requirements set by the eligible partnership under paragraph (e) of this priority if the applicant is unable or unwilling to complete the service obligation required by the paragraph.

(d) Repayments.

(1) In general. A grantee carrying out a teaching residency program under this priority shall require a recipient of a stipend or salary under paragraph (c)(1) of this priority who does not complete, or who notifies the partnership that the recipient intends not to complete, the service obligation required by paragraph (c)(3) of this priority to repay such stipend or salary to the eligible partnership, together with interest, at a rate specified by the partnership in the agreement, and in accordance with such other terms and conditions specified by the eligible partnership, as necessary;

(2) Other terms and conditions. Any other terms and conditions specified by the eligible partnership may include reasonable provisions for pro-rata repayment of the stipend or salary described in paragraph (c)(1) of this priority or for deferral of a teaching resident's service obligation required by paragraph (c)(3) of this priority, on grounds of health, incapacitation, inability to secure employment in a school served by the eligible partnership, being called to active duty in the Armed Forces of the United States, or other extraordinary circumstances;

(3) Use of repayments. An eligible partnership shall use any repayment received under paragraph (d) to carry out additional activities that are consistent with the purposes of this priority.

Competitive Preference Priorities: For FY 2014 and any subsequent year in which we make awards from the list of unfunded applicants from this competition, these priorities are competitive preference priorities. Under 34 CFR 75.105(c)(2)(i) we award up to an additional five points to an application, depending on how well the application meets Competitive Preference Priority 1, and up to an additional two points to an application, depending on how well the application meets Competitive Preference Priority 2. An applicant may receive a maximum of seven points for its response to these competitive preference priorities.

Note: Applicants may address one or both of the competitive preference priorities. An applicant must identify in the project narrative section of its application the priority or priorities it wishes the Department of Education (Department) to consider for the purpose of earning competitive preference priority points. The Department will not review or award points under any competitive preference priority that the applicant fails to clearly identify in its application.

These priorities are:

Competitive Preference Priority 1: Promoting Science, Technology, Engineering, and Mathematics (STEM) Education (0-5 Points)

Projects that are designed to address one or both of the following priority areas:

(a) Increasing the opportunities for high-quality preparation of, or professional development for, teachers or other educators of STEM subjects.

(b) Increasing the number of individuals from groups traditionally underrepresented in STEM, including minorities, individuals with disabilities, and women, who are teachers or educators of STEM subjects and have increased opportunities for high-quality preparation or professional development.

Note: Applicants that respond to Competitive Preference Priority 1 and Absolute Priority 1 are still required to implement the required reforms within the whole teacher preparation program, as reflected in sections (a) and (b) of Absolute Priority 1. In responding to this competitive preference priority, applicants are encouraged to include the following elements in their proposed projects:

(1) Institutional collaboration to ensure that students in a college of education who intend to teach STEM courses have access to courses that build appropriate content knowledge. Such students should have access to course sequencing that is equal to the course sequencing for other STEM majors outside the college of education.

(2) Emphasis on hands-on and inquiry-based STEM experiences for prospective teachers, including dedicated research or laboratory experiences, STEM discipline-specific pedagogical instruction, and explicit instruction in the interdisciplinary connections between learning sciences and STEM instruction; and

(3) Early and multiple field-based instructional experiences for prospective teachers that are structured to provide exposure to a variety of teaching and learning environments, and that are coordinated and aligned with the teacher preparation curriculum.

Competitive Preference Priority 2—Implementing Internationally Benchmarked, College- and Career-Ready Elementary and Secondary Academic Standards (0-2 Points)

Projects that are designed to support the implementation of internationally benchmarked, college- and career-ready academic standards held in common by multiple States and to improve instruction and learning, including projects in the following priority areas:

(a) The development or implementation of professional development or preparation programs aligned with those standards.

(b) Strategies that translate the standards into classroom practice.

Definitions: The definitions for “Early childhood educator,” “High-need early childhood education (ECE) program,” “High-need local educational agency (LEA)”, “High-need school,” and “Partner institution” are from section 200 of the HEA. The definitions for “Logic model,” “Relevant outcome,” and “Strong theory” are from 34 CFR 77.1.

Early childhood educator means an individual with primary responsibility for the education of children in an early childhood education program.

High-need early childhood education (ECE) program means an ECE program serving children from low-income families that is located within the geographic area served by a high-need LEA.

High-need local educational agency (LEA) means an LEA)—

(i)(A) For which not less than 20 percent of the children served by the agency are children from low-income families;

(B) That serves not fewer than 10,000 children from low-income families;

(C) That meets the eligibility requirements for funding under the Small, Rural School Achievement (SRSA) Program under section 6211(b) of the ESEA; or

(D) That meets eligibility requirements for funding under the Rural and Low-Income School (RLIS) Program under section 6221(b) of the ESEA; and—

(ii)(A) For which there is a high percentage of teachers not teaching in the academic subject areas or grade levels in which the teachers were trained to teach; or

(B) For which there is a high teacher turnover rate or a high percentage of teachers with emergency, provisional, or temporary certification or licensure.

High-need school means a school that, based on the most recent data available, meets one or both of the following:

(i) The school is in the highest quartile of schools in a ranking of all schools served by an LEA, ranked in descending order by percentage of students from low-income families enrolled in such schools, as determined by the LEA based on one of the following measures of poverty:

(A) The percentage of students aged 5 through 17 in poverty counted in the most recent census data approved by the Secretary.

(B) The percentage of students eligible for a free or reduced price school lunch under the Richard B. Russell National School Lunch Act.

(C) The percentage of students in families receiving assistance under the State program funded under Part A of Title IV of the Social Security Act.

(D) The percentage of students eligible to receive medical assistance under the Medicaid program.

(E) A composite of two or more of the measures described in paragraphs (A) through (D).

(ii) In the case of—

(A) An elementary school, the school serves students not less than 60 percent of whom are eligible for a free or reduced price school lunch under the Richard B. Russell National School Lunch Act; or

(B) Any other school that is not an elementary school, the other school serves students not less than 45 percent of whom are eligible for a free or reduced price school lunch under the Richard B. Russell National School Lunch Act.

(iii) The Secretary may, upon approval of an application submitted by an eligible partnership seeking a grant under this title, designate a school that does not qualify as a high-need school under this definition, as a high-need school for the purpose of this title. The Secretary shall base the approval of an application for designation of a school under this clause on a consideration of the information required under section 200 (II)(B)(ii) of the HEA, and may also take into account other information submitted by the eligible partnership.

Note: Information on how an applicant could provide alternate evidence to support designation of a school as high-need is included in the application package, and in section 200(II)(B)(ii) of the HEA.

Logic model (also referred to as a theory of action) means a well-specified conceptual framework that identifies key components of the proposed process, product, strategy, or practice (i.e., the active “ingredients” that are hypothesized to be critical to achieving the relevant outcomes) and describes the relationships among the key components and outcomes, theoretically and operationally.

Partner institution means an IHE, which may include a two-year IHE offering a dual program with a four-year IHE, participating in an eligible partnership that has a teacher preparation program—

(i) Whose graduates exhibit strong performance on State determined qualifying assessments for new teachers through—

(A) Demonstrating that 80 percent or more of the graduates of the program who intend to enter the field of teaching have passed all of the applicable State qualification assessments for new teachers, which shall include an assessment of each prospective teacher's subject matter knowledge in the content area in which the teacher intends to teach; or

(B) Being ranked among the highest-performing teacher preparation programs in the State as determined by the State—

(1) Using criteria consistent with the requirements for the State Report Card under section 205(b) of the HEA before the first publication of the report card; and

(2) Using the State report card on teacher preparation required under section 205(b), after the first publication of such report card and for every year thereafter; and

(ii) That requires—

(A) Each student in the program to meet high academic standards or demonstrate a record of success, as determined by the institution (including prior to entering and being accepted into a program), and participate in intensive clinical experience;

(B) Each student in the program preparing to become a teacher to become highly qualified; and

(C) Each student in the program preparing to become an early childhood educator to meet degree requirements, as established by the State, and become highly competent.

Note: For purposes of paragraph (ii)(C) of this definition, the term “highly competent,” under section 200(12) of the HEA, when used with respect to an early childhood educator, means an educator—

(a) With specialized education and training in development and education of young children from birth until entry into kindergarten;

(b) With-

(i) A baccalaureate degree in an academic major in the arts and sciences; or

(ii) An associate's degree in a related educational area; and

(c) Who has demonstrated a high level of knowledge and use of content and pedagogy in the relevant areas associated with quality ECE.

Relevant outcome means the student outcome (or the ultimate outcome if not related to students) the proposed process, product, strategy, or practice is designed to improve, as consistent with the specific goals of a program.

Strong theory means a rationale for the proposed process, product, strategy, or practice that includes a logic model.

Note: Definitions for the following terms that apply to this program are in section 200 of the HEA: “arts and sciences,” “highly qualified,” “induction program,” “limited English proficient,” “professional development,” “scientifically valid research,” “teacher mentoring,” and “teaching residency program.”

Program Authority: 20 U.S.C. 1021-1022(c).

Applicable Regulations

(a) The Education Department General Administrative Regulations (EDGAR) in 34 CFR parts 74, 75, 77, 79, 80, 81, 82, 84, 86, 97, 98, and 99. (b) The Education Department suspension and debarment regulations in 2 CFR part 3485.

Note: The regulations in 34 CFR part 79 apply to all applicants except federally recognized Indian tribes.

Note: The regulations in 34 CFR part 86 apply to IHEs only.

II. Award Information

Type of Award: Discretionary grants.

Estimated Available Funds: $35,000,000.

Contingent upon the availability of funds and the quality of applications, we may make additional awards in FY 2015 and subsequent years from the list of unfunded applicants from this competition.

Estimated Range of Awards: $1,000,000—$2,000,000.

Estimated Average Size of Awards: $1,500,000 for the first year of the project. Funding for the second, third, fourth, and fifth years is subject to the availability of funds and the approval of continuation awards (see 34 CFR 75.253).

Estimated Number of Awards: 20.

Note: The Department is not bound by any estimates in this notice.

Project Period: Up to 60 months.

III. Eligibility Information

General Application Requirements

All applicants must meet the following general application requirements in order to be considered for funding. Except as specifically noted in this section, the general application requirements are from section 202 of the HEA (20 U.S.C. 1022a).

Each eligible partnership desiring a grant under this program must submit an application that contains—

(a) A needs assessment of the partners in the eligible partnership with respect to the preparation, ongoing training, professional development, and retention of general education and special education teachers, principals, and, as applicable, early childhood educators;

(b) A description of the extent to which the program to be carried out with grant funds, as described in Absolute Priority 1 or Absolute Priority 2, or both, in this notice, and, if the applicant chooses to do so, a Partnership Grant for the Development of Leadership Program, as described in section 202(f) of the HEA, will prepare prospective and new teachers with strong teaching skills;

(c) A description of how such program will prepare prospective and new teachers to understand and use research and data to modify and improve classroom instruction;

(d) A description of—

(1) How the eligible partnership will coordinate strategies and activities assisted under the grant with other teacher preparation or professional development programs, including programs funded under the ESEA and IDEA and through the National Science Foundation; and

(2) How the activities of the partnership will be consistent with State, local, and other education reform activities that promote teacher quality and student academic achievement;

(e) An assessment that describes the resources available to the eligible partnership, including—

(1) The integration of funds from other related sources;

(2) The intended use of the grant funds; and

(3) The commitment of the resources of the partnership to the activities assisted under this program, including financial support, faculty participation, and time commitments, and to the continuation of the activities when the grant ends.

(f) A description of—

(1) How the eligible partnership will meet the purposes of the TQP Grant Program as specified in section 201 of the HEA;

(2) How the partnership will carry out the activities required under Absolute Priority 1 or Absolute Priority 2, or both, as described in this notice, based on the needs identified in paragraph (a), with the goal of improving student academic achievement;

(3) If the partnership chooses to use funds under the TQP Grant Program for a project or activities under section 202(f) of the HEA [Partnership Grants for the Development of Leadership Programs] or section 202(g) of the HEA [Partnership with Digital Education Content Developer], how the partnership will carry out such project or required activities based on the needs identified in the needs assessment described in paragraph (a), with the goal of improving student academic achievement;

Note: In FY 2014, the Department is not funding any grants under sections 202(f) or 202(g) of the HEA.

(4) The partnership's evaluation plan under section 204(a) of the HEA;

(5) How the partnership will align the teacher preparation program with the—

(i) State early learning standards for ECE programs, as appropriate, and with the relevant domains of early childhood development; and

(ii) Student academic achievement standards and academic content standards under section 1111(b)(1) of the ESEA, established by the State in which the partnership is located;

(6) How the partnership will prepare general education teachers to teach students with disabilities, including training related to participation as a member of individualized education program teams, as defined in section 614(d)(1)(B) of the IDEA;

(7) How the partnership will prepare general education and special education teachers to teach students who are limited English proficient;

(8) How faculty at the partner institution will work during the term of the grant, with highly qualified teachers in the classrooms of high-need schools served by the high-need LEA in the partnership to—

(i) Provide high-quality professional development activities to strengthen the content knowledge and teaching skills of elementary school and secondary school teachers; and

(ii) Train other classroom teachers to implement literacy programs that incorporate the essential components of reading instruction;

(9) How the partnership will design, implement, or enhance a year-long and rigorous teaching preservice clinical program component;

(10) How the partnership will support in-service professional development strategies and activities; and

(11) How the partnership will collect, analyze, and use data on the retention of all teachers and early childhood educators in schools and ECE programs located in the geographic area served by the partnership to evaluate the effectiveness of the partnership's teacher and educator support system.

(g) With respect to the induction program required as part of the activities carried out under Absolute Priority 1 or Absolute Priority 2, or both—

(1) A demonstration that the schools and departments within the IHE that are part of the induction program will effectively prepare teachers, including providing content expertise and expertise in teaching, as appropriate;

(2) A demonstration of the eligible partnership's capability and commitment to, and the accessibility to and involvement of faculty in, the use of empirically-based practice and scientifically valid research on teaching and learning;

(3) A description of how the teacher preparation program will design and implement an induction program to support, through not less than the first two years of teaching, all new teachers who are prepared by the teacher preparation program in the partnership and who teach in the high-need LEA in the partnership, and, to the extent practicable, all new teachers who teach in such high-need LEA, in the further development of the new teachers' teaching skills, including the use of mentors who are trained and compensated by such program for the mentors' work with new teachers; and

(4) A description of how faculty involved in the induction program will be able to substantially participate in an ECE program or elementary school or secondary school classroom setting, as applicable, including release time and receiving workload credit for such participation.

1. Eligible Applicants: An eligible applicant must be an “eligible partnership” as defined in section 200(6) of the HEA. The term “eligible partnership” means an entity that—

(1) Shall include:

(i) A high-need LEA;

(ii)(A) A high-need school or consortium of high-need schools served by the high-need LEA, or

(B) As applicable, a high-need ECE program;

(iii) A partner institution;

(iv) A school, department, or program of education within such partner institution, which may include an existing teacher professional development program with proven outcomes within a four-year IHE that provides intensive and sustained collaboration between faculty and LEAs consistent with the requirements of title II of the HEA;

(v) A school or department of arts and sciences within such partner institution; and

(2) May include any of the following—

(i) The Governor of the State.

(ii) The State educational agency.

(iii) The State board of education.

(iv) The State agency for higher education.

(v) A business.

(vi) A public or private nonprofit educational organization.

(vii) An educational service agency.

(viii) A teacher organization.

(ix) A high-performing LEA, or a consortium of such LEAs, that can serve as a resource to the partnership.

(x) A charter school (as defined in section 5210 of the ESEA).

(xi) A school or department within the partner institution that focuses on psychology and human development.

(xii) A school or department within the partner institution with comparable expertise in the disciplines of teaching, learning, and child and adolescent development.

(xiii) An entity operating a program that provides alternative routes to State certification of teachers. Any of the mandatory or optional entities in the partnership may be the fiscal agent of the grant.

Note: So that the Department can confirm the eligibility of the LEAs that applicants propose to serve, applicants must include information in their applications that demonstrates that each LEA to be served by the project is a “high-need LEA” (as defined in this notice and in section 200(10) of the HEA).

Applicants should refer to the application package for additional information on determining whether an LEA meets the definition of “high-need LEA.”

2.a. Cost Sharing or Matching:

Under section 203(c) of the HEA (20 U.S.C. 1022b), each grant recipient must provide, from non-Federal sources, an amount equal to 100 percent of the amount of the grant, which may be provided in cash or in-kind, to carry out the activities supported by the grant. Grantees must budget their matching contributions on an annual basis relative to each annual award of TQP Grant Program funds.

The HEA also authorizes the Secretary to waive this matching requirement for any fiscal year for an eligible partnership if the Secretary determines that applying the matching requirement to the eligible partnership would result in serious hardship or an inability to carry out the authorized activities described in section 202 of the HEA. Applicants that wish to apply for a waiver for year one or for future years of the project may include a request in their application that describes how the 100 percent matching requirement would cause serious hardship or an inability to carry out project activities. Further information about applying for waivers can be found in the application package. However, given the importance of matching funds to the long-term success of the project, at this time, the Secretary fully expects projects to identify appropriate matching funds.

b. Supplement-Not-Supplant: This program involves supplement-not-supplant funding requirements. In accordance with section 202(k) of the HEA, funds made available under this program must be used to supplement, and not supplant, other Federal, State, and local funds that would otherwise be expended to carry out activities under this program.

IV. Application and Submission Information

1. Address to Request Application Package: Christine Miller, U.S. Department of Education, 400 Maryland Avenue SW., Room 4C119, Washington, DC 20202. Telephone: (202) 453-5680 or by email: tqpartnership@ed.gov.

You can also obtain an application package via the Internet or from the Education Publications Center (ED Pubs). To obtain a copy via the Internet, use the following address: https://www2.ed.gov/programs/tqpartnership/applicant.html. To obtain a copy from ED Pubs, write, fax, or call the following: ED Pubs, U.S. Department of Education, P.O. Box 22207, Alexandria, VA 22304. Telephone, toll free: 1-877-433-7827. FAX: (703) 605-6794.

You can contact ED Pubs at its Web site, also: www.EDPubs.gov or at its email address: edpubs@inet.ed.gov.

If you request an application from ED Pubs, be sure to identify this program or competition as follows: CFDA number 84.336S.

If you use a telecommunications device for the deaf (TDD) or a text telephone (TTY), call the TDD/TTY number at 1-877-576-7734.

Individuals with disabilities can obtain a copy of the application package in an accessible format (e.g., braille, large print, audiotape, or compact disc) by contacting the program contact person listed in this section.

2. Content and Form of Application Submission: Requirements concerning the content of an application, together with the forms you must submit, are in the application package for this program.

Notice of Intent to Apply: June 27, 2014.

The Department will be able to develop a more efficient process for reviewing grant applications if it has a better understanding of the number of entities that intend to apply for funding under this competition. Therefore, the Secretary strongly encourages each potential applicant to notify the Department by sending a short email message indicating the applicant's intent to submit an application for funding. The email need not include information regarding the content of the proposed application, only the applicant's intent to submit it. The Secretary requests that this email notification be sent to Christine Miller at TQPartnership@ed.gov. Applicants that fail to provide this email notification may still apply for funding.

Page Limit: The application narrative (Part III of the application) is where you, the applicant, address the selection criteria that reviewers use to evaluate your application. It is recommended that the application narrative (Part III) be no more than 50 pages, using the following standards:

• A “page” is 8.5″ × 11″, on one side only, with 1″ margins at the top, bottom, and both sides.

• Double space (no more than three lines per vertical inch) all text in the application narrative, including titles, headings, footnotes, quotations, references, and captions. However, you may single space all text in charts, tables, figures, and graphs.

• Use a font that is either 12 point or larger or no smaller than 10 pitch (characters per inch).

• Use one of the following fonts: Times New Roman, Courier, Courier New, or Arial. An application submitted in any other font (including Times Roman or Arial Narrow) will not be accepted.

The recommended page limit does not apply to Part I, the cover sheet; Part II, the budget section, including the narrative budget justification; Part IV, the assurances and certifications; or the one-page abstract, the resumes, the bibliography, or the letters of support. However, the recommended page limit does apply to all of the application narrative section (Part III).

b. Submission of Proprietary Information: Given the types of projects that may be proposed in applications for the TQP Grant Program, some applications may include business information that applicants consider proprietary. The Department's regulations define “business information” in 34 CFR 5.11.

Because we plan to post the project narrative section of funded TQP Grant Program applications on the Department's Web site, applicants may wish to request confidentiality of business information. Identifying proprietary information in the submitted application will help facilitate this public disclosure process.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times: Applications Available: May 28, 2014. Deadline for Notice of Intent to Apply: June 27, 2014. Date of Pre-Application Webinars (all times are Washington, DC time): Tuesday, June 10, 2014 at 10:00 a.m. and Thursday, June 12, 2014 at 2:00 p.m. Further information will be available at: www2.ed.gov/programs/tqpartnership/applicant.html. Deadline for Transmittal of Applications: July 14, 2014.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice. Deadline for Intergovernmental Review: September 10, 2014.

4. Intergovernmental Review: This program is subject to Executive Order 12372 and the regulations in 34 CFR part 79. Information about Intergovernmental Review of Federal Programs under Executive Order 12372 is in the application package for this program.

5. Funding Restrictions: We specify unallowable costs in 34 CFR 74.27 and 80.22.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two-to-five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program must be submitted electronically unless you qualify for an exception to this requirement in accordance with the instructions in this section.

a. Electronic Submission of Applications. Applications for grants under the TQP Grant Program, CFDA number 84.336S, must be submitted electronically using the Government wide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the TQP Grant Program at www.Grants.gov. You must search for the downloadable application package for this program [competition] by the CFDA number. Do not include the CFDA number's alpha suffix in your search (e.g., search for 84.336, not 84.336S).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Christine Miller, U.S. Department of Education, 400 Maryland Avenue SW., Room 4C119, Washington, DC 20202. FAX: (202) 401-8446.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.336S), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.336S), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications:

If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210. An applicant may earn up to a total of 100 points based on the selection criteria. The maximum score for each criterion is indicated in parentheses. Each criterion also includes the factors that the reviewers will consider in determining how well an application meets the criterion. A note following a selection criterion is guidance to help applicants in preparing their applications, and is not required by statute or regulations. The criteria are as follows:

(a) Significance (up to 15 points).

(1) The Secretary considers the significance of the proposed project.

(2) In determining the significance of the proposed project, the Secretary considers the following factors—

(i) The extent to which the proposed project is likely to build local capacity to provide, improve, or expand services that address the needs of the target population.

(ii) The likelihood that the proposed project will result in system change or improvement.

(iii) The extent to which the proposed project will prepare personnel for fields in which shortages have been demonstrated.

(b) Quality of the Project Design (up to 45 points).

(1) The Secretary considers the quality of the design of the proposed project.

(2) In determining the quality of the design of the proposed project, the Secretary considers the extent to which the proposed project consists of a comprehensive plan that includes a description of—

(i) The extent to which the proposed project is supported by strong theory (as defined in this notice).

(ii) The extent to which the training or professional development services to be provided by the proposed project are of sufficient quality, intensity, and duration to lead to improvements in practice among the recipients of those services.

(iii) The extent to which the proposed activities constitute a coherent, sustained program of training in the field.

(iv) The extent to which the services to be provided by the proposed project involve the collaboration of appropriate partners for maximizing the effectiveness of project services.

(v) The extent to which the applicant demonstrates that it has the resources to operate the project beyond the length of the grant, including a multi-year financial and operating model and accompanying plan; the demonstrated commitment of any partners; evidence of broad support from stakeholders (e.g., State educational agencies, teachers' unions) critical to the project's long-term success; or more than one of these types of evidence.

Note: In order to address this criterion, applicants are encouraged to develop logic models to demonstrate their project's theory of action. Applicants should connect available evidence of past history of successful outcomes to their logic models. Applicants may use resources such as the Pacific Education Laboratory's Education Logic Model Application (www.relpacific.mcrel.org/PERR.html) or the Northeast and Island's REL Skill Builder Workshops (www.relnei.org/events/skill-builder-archive.html) to help design their logic models. In addressing this criterion, applicants are also encouraged to connect the project design to the intended impact of the project, including an explanation of how the project will affect the preparation, placement, retention, induction, and professional development of teachers, and ultimately student achievement. Finally, applicants are encouraged to discuss the role and commitment of each partner and how the IHE and LEA(s) plan to sustain their partnership beyond the life of the grant.

(c) Quality of the Management Plan (up to 20 points).

(1) The Secretary considers the quality of the management plan for the proposed project.

(2) In determining the quality of the management plan for the proposed project, the Secretary considers the following factors—

(i) The adequacy of the management plan to achieve the objectives of the proposed project on time and within budget, including clearly defined responsibilities, timelines, and milestones for accomplishing project tasks.

(ii) The qualifications, including relevant training and experience, of key project personnel.

(iii) The extent to which performance feedback and continuous improvement are integral to the design of the proposed project.

Note: In order to address this criterion, applicants are encouraged to include in the application narrative a clear, well thought-out implementation plan that includes annual timelines, key project milestones, and a schedule of activities with sufficient time for developing an adequate implementation plan, as well as a description and qualifications of the personnel who would be responsible for each activity and the level of effort each activity entails. Applicants may also describe how the partnering organizations will communicate and coordinate in order to achieve project goals.

(d) Quality of the Project Evaluation (up to 20 points).

(1) The Secretary considers the quality of the evaluation to be conducted of the proposed project.

(2) In determining the quality of the evaluation, the Secretary considers—

(i) The extent to which the methods of evaluation provide valid and reliable performance data on relevant outcomes.

Note: In response to this selection factor, applicants are encouraged to include data on student learning.

(ii) The extent to which the methods of evaluation are thorough, feasible, and appropriate to the goals, objectives, and outcomes of the proposed project.

(iii) The extent to which the methods of evaluation will provide performance feedback and permit periodic assessment of progress toward achieving intended outcomes.

Note: In addressing this criterion, applicants are encouraged to include a plan for how the project's evaluation will address the TQP Grant Program performance measures established by the Department under the Government Performance and Results Act of 1993 (GPRA), as well as the measures established in section 204(a) of the HEA. (The specific performance measures established for the overall TQP Grant Program are discussed under Performance Measures in section VI of this notice.) Further, applicants are encouraged to describe how the applicant's evaluation plan will be designed to collect both output data and outcome data, including benchmarks, to monitor progress. Finally, each applicant is encouraged to select an independent, objective evaluator who has experience in evaluating educational programs and who will play an active role in the design and implementation of the project's evaluation.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The objective of the TQP Grant Program is to increase student achievement in K-12 schools by developing highly qualified teachers. Under GPRA, the following measures will be used by the Department in assessing the performance of this program:

(a) Performance Measure 1: Graduation. The percentage of program completers who—

(1) Attain initial certification/licensure by passing all necessary certification/licensure assessments and attain a bachelor's degree (pre-baccalaureate teacher preparation program) or initial license (fifth-year initial licensing program), within six years of beginning the program or a master's degree (residency program) within two years of beginning the program; or

(2) Attain Highly Competent Early Childhood Educator status by earning a bachelor's degree within six years of beginning the program or an associate's degree within three years of beginning the program;

(b) Performance Measure 2: Employment Retention. The percentage of beginning teachers who are retained in teaching in the partner high-need LEA or high-need ECE program three years after being hired by the high-need LEA or high-need ECE program;

(c) Performance Measure 3: Improved Scores. The percentage of grantees that report improved scaled scores on assessments for initial State certification or licensure of teachers;

(d) Performance Measure 4: Student Learning. The percentage of grantees that report improved aggregate learning outcomes of students taught by new teachers. These data can be calculated using a student growth measure, a teacher evaluation measure, or both.

(d) Efficiency Measure: Employment Retention. The cost of a successful outcome where success is defined as retention of the teacher in the partner high-need LEA or high-need ECE program three years after the teacher is hired by the high-need LEA or high-need ECE program;

(e) Short-Term Performance Measures. Because the performance measures already listed would not provide data for a number of years, the Department has also established the following two measures that will provide data in a shorter timeframe—

(1) Short-Term Performance Measure 1: Persistence. The percentage of program participants who were not scheduled to graduate in the previous reporting period and persisted in the postsecondary program in the current reporting period; and

(2) Short-Term Performance Measure 2: Employment Retention. The percentage of beginning teachers who are retained in teaching in the partner high-need LEA or high-need ECE program one year after being hired by the LEA or high-need ECE program.

Applicants must also address the evaluation requirements in section 204(a) of the HEA. This section asks applicants to develop objectives and measures for increasing:

(i) Achievement for all prospective and new teachers, as measured by the eligible partnership;

(ii) Teacher retention in the first three years of a teacher's career;

(iii) Improvement in the pass rates and scaled scores for initial State certification or licensure of teachers; and

(d)(1) The percentage of highly qualified teachers hired by the high-need LEA participating in the eligible partnership;

(2) The percentage of highly qualified teachers hired by the high-need LEA who are members of underrepresented groups;

(3) The percentage of highly qualified teachers hired by the high-need LEA who teach high-need academic subject areas (such as reading, mathematics, science, and foreign language, including less commonly taught languages and critical foreign languages);

(4) The percentage of highly qualified teachers hired by the high-need LEA who teach in high-need areas (including special education, language instruction educational programs for limited English proficient students, and early childhood education);

(5) The percentage of highly qualified teachers hired by the high-need LEA who teach in high-need schools, disaggregated by the elementary school and secondary school levels;

(6) As applicable, the percentage of early childhood education program classes in the geographic area served by the eligible partnership taught by early childhood educators who are highly competent; and

(7) As applicable, the percentage of teachers trained—

(i) To integrate technology effectively into curricula and instruction, including technology consistent with the principles of universal design for learning; and

(ii) To use technology effectively to collect, manage, and analyze data to improve teaching and learning for the purpose of improving student academic achievement.

Note: If funded, you will be asked to collect and report data on these measures in your project's annual performance report (34 CFR 75.590). Applicants are also advised to consider these measures in conceptualizing the design, implementation, and evaluation of their proposed projects because of their importance in the application review process. Collection of data on these measures should be a part of the evaluation plan, along with measures of progress on goals and objectives that are specific to your project.

All grantees will be expected to submit an annual performance report documenting their success in addressing these performance measures.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Christine Miller, U.S. Department of Education, 400 Maryland Avenue SW., Room 4C119, Washington, DC 20202-5950. Telephone: (202) 453-5680 or by email: tqpartnership@ed.gov.

If you use a TDD or a TTY, call the TDD/TTY number at 1-877-576-7734.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 21, 2014.
Nadya Chinoy Dabby,
Assistant Deputy Secretary for Innovation and Improvement.

[FR Doc. 2014-12346 Filed 5-27-14; 8:45 am]

BILLING CODE 4000-01-P